DEPARTMENT OF DEFENSE

Department of the Air Force

HQ USAF Scientific Advisory Board

AGENCY: Department of the Air Force, DoD.

ACTION: Notice of meeting.

SUMMARY: Pursuant to 10 U.S.C., Section 9355, notice is hereby given of the forthcoming meeting of the Air Force Academy Board of Visitors. The purpose of the meeting is to consider morale and discipline, the curriculum, instruction, physical equipment, fiscal affairs, academic methods, and other matters relating to the Academy. A portion of the meeting will be open to the public while other portions will be closed to the public to discuss matters listed in 5 U.S.C. subsections (2), (6), and (9)(B), section 552b(c). Open sessions will include panel discussion on the sexual assault problems at the Academy, to include actions taken in response to the Agenda for Change, The Report of the Working Group Concerning Deterrence of and Response to Incidents of Sexual Assault at the U.S. Air Force Academy, and the Report of the Panel to Review Sexual Misconduct Allegations at the U.S. Air Force Academy, as well as a discussion of the Board of Visitors charter. Closed sessions will include panel discussions with Academy cadets. The determination to close certain sessions is based on the consideration that portions of the briefings and discussion will relate solely to the internal personnel rules and practices of the Board of Visitors or the Academy; involve information of a personal nature, the disclosure of which would constitute a clearly unwarranted invasion of personal privacy; or involve discussions of information the premature disclosure of which would be likely to frustrate implementation of future agency action. Meeting sessions will be held in various facilities throughout the cadet area.

DATES: October 10-11, 2003.

ADDRESSES: U.S. Air Force Academy, CO.

FOR FURTHER INFORMATION CONTACT: Major Steve Sandridge, Development and Alumni Programs Division, HQ USAFA/XPA, 2304 Cadet Drive, Suite 301, USAF Academy, CO 80840-5002, (719) 333-3668.

Pamela D. Fitzgerald,
Air Force Federal Register Liaison Officer.

[FR Doc. 03-25058 Filed 10-2-03; 8:45 am]

BILLING CODE 5001-05-P